DEPARTMENT OF TRANSPORTATION

Federal Motor Carrier Safety Administration

[Docket No. FMCSA-2013-0304]

Agency Information Collection Activities; Reinstatement of an Information Collection Request: Motor Carrier Safety Grants Programs (Formerly Motor Carrier Safety Assistance Programs (MCSAP))

AGENCY: FMCSA, DOT.

ACTION: Notice; request for comments.

SUMMARY: In accordance with the Paperwork Reduction Act of 1995, the Federal Motor Carrier Safety Administration (FMCSA) announces its plan to submit the Information Collection Request (ICR) described below to the Office of Management and Budget (OMB) for its review and approval and invites public comment. The FMCSA requests approval to reinstate an ICR titled, “Motor Carrier Safety Grants Programs,” (formerly Motor Carrier Safety Assistance Program (MCSAP)). The information required consists of grant application preparation, quarterly reports and electronic data documenting the results of driver/vehicle inspections performed by the States. The FMCSA previously requested and received OMB approval to use the existing Forms in this ICR to also collect the same information required by its MCSAP grants: MCSAP Basis/Incentive (MCG), Border Enforcement Grant (BEG), New Entrant (MNE) Grant, and High Priority (MHP) Grant, the Commercial Driver's License Program Implementation (CDLPI) Grant, Commercial Driver License Information System (CDLIS) Grant, and Performance and Registration Information System Management (PRISM) Grant programs are covered by this ICR. The FMCSA now requests to include the following grant programs in this information collection: Commercial Vehicle Information Systems and Networks (CVISN), Commercial Motor Vehicle Operator Safety Training Grant (CMVOST), and Safety Data Improvement Program (SaDIP). In addition, the name of this ICR is being changed to: “Motor Carrier Safety Grants Programs,” to more accurately describe the purpose of this ICR.

DATES: We must receive your comments on or before May 20, 2014.

ADDRESSES: You may submit comments identified by Federal Docket Management System (FDMS) Docket Number FMCSA-2013-0304 using any of the following methods:

• Federal eRulemaking Portal: Go to http://www.regulations.gov. Follow the on-line instructions for submitting comments.

• Fax: 1-202-493-2251.

• Mail: Docket Management Facility; U.S. Department of Transportation, 1200 New Jersey Avenue SE., West Building, Ground Floor, Room W12-140, Washington, DC 20590-0001.

• Hand Delivery or Courier: West Building, Ground Floor, Room W12-140, 1200 New Jersey Avenue SE., Washington DC, 20590-0001 between 9:00 a.m. and 5:00 p.m., e.t., Monday through Friday, except Federal Holidays.

Instructions: All submissions must include the Agency name and docket number. For detailed instructions on submitting comments and additional information on the exemption process, see the Public Participation heading below. Note that all comments received will be posted without change to http://www.regulations.gov, including any personal information provided. Please see the Privacy Act heading below.

Docket: For access to the docket to read background documents or comments received, go to http://www.regulations.gov, and follow the online instructions for accessing the dockets, or go to the street address listed above.

Privacy Act: Anyone is able to search the electronic form of all comments received into any of our dockets by the name of the individual submitting the comment (or signing the comment, if submitted on behalf of an association, business, labor union, etc.). You may review DOT's complete Privacy Act Statement for the Federal Docket Management System published in the Federal Register on January 17, 2008 (73 FR 3316), or you may visit http://edocket.access.gpo.gov/2008/pdfE8-794.pdf.

Public Participation: The Federal eRulemaking Portal is available 24 hours each day, 365 days each year. You can obtain electronic submission and retrieval help and guidelines under the “help” section of the Federal eRulemaking Portal Web site. If you want us to notify you that we received your comments, please include a self-addressed, stamped envelope or postcard, or print the acknowledgement page that appears after submitting comments online. Comments received after the comment closing date will be included in the docket and will be considered to the extent practicable.

FOR FURTHER INFORMATION CONTACT: Julie Otto, Grants Management Office, Office of the Chief Financial Officer, U.S. Department of Transportation, FMCSA, West Building 6th Floor, 1200 New Jersey Avenue SE., Washington DC 20590. Telephone: 202-366-0710; email: julie.otto@dot.gov.

SUPPLEMENTARY INFORMATION: Background: Information collected from the following FMCSA grant programs provides program and financial data supporting numerous efforts targeting FMCSA's primary mission to reduce crashes, injuries, and fatalities involving commercial vehicles:

MCSAP Basic/Incentive (MCG) Grant Program: The MCSAP grant program is authorized by Sections 401 through 404 of the Surface Transportation Assistance Act of 1982 (STAA) (Pub. L. 97-424) which established a program of financial assistance to the States to implement programs to enforce: (a) Federal rules, regulations, standards, and orders applicable to commercial motor vehicle (CMV) safety; and (b) compatible State rules, regulations, standards and orders. This grant-in-aid program is known as the MCSAP Basic and Incentive grant program. Section 402(c) of the STAA requires that the Secretary of Transportation (Secretary), on the basis of reports submitted by the States and the Secretary's own inspections, make a continuing evaluation of the manner in which each State is carrying out its approved safety enforcement plan.

The Transportation Equity Act for the 21st Century (TEA-21), Public Law 105-178, 112 Stat. 107 (June 9, 1998) further revised MCSAP to broaden its purpose beyond enforcement activities and programs by requiring participating States to assume greater responsibility for improving motor carrier safety. TEA-21 required States to develop performance-based plans reflecting national priorities and performance goals, revised the MCSAP funding distribution formula, and created a new incentive funding program. As a result, States are given greater flexibility in designing programs to address national and State goals of reducing the number and severity of CMV crashes.

Section 4106 of the Safe, Accountable, Flexible, Efficient Transportation Equity Act: A Legacy for Users (SAFETEA-LU), Public Law 109-59, 119 Stat.1144 (August 10, 2005) amended 49 U.S.C. 31102(b)(1) to modify and augment the conditions a State must meet to qualify for basic program funds under the MCSAP. The statute requires a State to document in the State Commercial Vehicle Safety Plan (CVSP) its commitment to meet the following additional conditions:

• Deploy technology to enhance the efficiency and effectiveness of CMV safety programs;

• Include, in both the training manual for the licensing examination to drive, a non-CMV and the training manual for the licensing examination to drive a CMV, information on best practices for driving safely in the vicinity of noncommercial motor vehicles (non-CMVs) and CMVs;

• Conduct comprehensive and highly visible traffic enforcement and CMV safety inspection programs in high-risk locations and corridors; and

• Except in the case of an imminent or obvious safety hazard, ensure that an inspection of a vehicle transporting passengers for a motor carrier of passengers is conducted at a station, terminal, border crossing, maintenance facility, destination, or other location where a motor carrier may make a planned stop.

Additionally, section 4106 of SAFETEA-LU amended 49 U.S.C. 31102(c) to provide that a State may use a portion of MCSAP grant funds to conduct documented enforcement of State traffic laws—both laws and regulations designed to promote the safe operation of CMVs and laws and regulations relating to non-CMVs, when necessary to promote the safe operation of CMVs. Previously, non-CMV traffic enforcement was not an eligible MCSAP activity for reimbursement so the States did not capture activity levels for this type of enforcement. The number of non-CMV enforcement activities conducted by the States has been relatively minimal since SAFETEA-LU limits the amount of MCSAP grant funding that can be used for non-CMV traffic enforcement activities to no more than five percent of the basic grant amount the State receives annually. The Moving Ahead for Progress in the 21st Century Act (MAP-21) Public Law 112-141, 126 Stat. 405, 805-808 (July 6, 2012), did not make any further modifications to the traffic enforcement activities previously authorized under SAFETEA-LU.

Section 32601 of MAP-21, amended 49 U.S.C. 31102(b) to modify and augment the conditions a State must meet to qualify for basic program funds under the MCSAP. The statute requires a State to document in its CVSP the commitment to meet the following additional conditions:

• Ensure that the State will transmit to its roadside inspectors the notice of each Federal exemption granted pursuant to section 31315(b) and provided to the State by the Secretary, including the name of the person granted the exemption and any terms and conditions that apply to the exemption;

• The plan submitted by the State shall provide that the total expenditure of amounts of the lead State agency responsible for implementing the plan will be maintained at a level at least equal to the average level of that expenditure for fiscal years 2004 and 2005.

This information collection supports the DOT Strategic Goal of Safety (i.e., reducing CMV-related fatalities and injuries) by providing data to support State CMV enforcement efforts.

In order for FMCSA to evaluate program effectiveness, it is necessary for the State to provide and maintain information concerning past, present and future program activity. The final rule that revised part 350 to implement the changes to the MCSAP made by SAFETEA-LU was published in the Federal Register on July 5, 2007 (72 FR 36769). Each State's CVSP must contain the information required by 49 CFR 350.201, 350.211 and 350.213. This information is necessary to enable the FMCSA to determine whether a State meets the statutory and administrative criteria to be eligible for a grant. It is necessary that a State's work activities and accomplishments be reported so that FMCSA can monitor and evaluate a State's progress under its approved plan and make the determinations and decisions required by 49 CFR 350.205 and 350.207.

The FMCSA uses the information in the CVSP to determine whether a State has the necessary resources and authority to undertake the program intended by Congress. After a grant has been awarded to a State, a continuing evaluation of the State's activities is performed to determine whether continued funding is appropriate and if revisions in the State's CVSP should be made. Quarterly reports are submitted by the States using Standard Forms Federal Financial Report (SF-FFR) and Performance Progress Report (SF-PPR) which includes an addendum to provide the minimum necessary information to assist in appropriate monitoring of a State's performance, compared to its CVSP, and to permit FMCSA to determine whether the effort of a State is cost efficient and whether Federal assistance should be continued. In addition, inspection data, non-inspection traffic enforcement data, crash reports, and other reports are submitted electronically by the State agency to FMCSA.

MCSAP High Priority (MHP) Grant Program: The MCSAP HP grant program is authorized by SAFETEA-LU, Public Law 109-59, § 4107(a), 119 Stat. 1144, 1719-20 (2005), as amended by SAFETEA-LU Technical Corrections Act of 2008, Public Law 110-244, § 4301(a), § 4107, 122 Stat. 1572, 1616 (2008), as amended by MAP-21, Public Law 112-141, §§ 32603(a), 32603(d), 126 Stat. 405, 807, 808 (2012).

The FMCSA may award these grants to States, local governments, and other organizations that use or train qualified officers and employees in coordination with State safety agencies in accordance with the provisions of 49 CFR 350.201, 350.309, and 350.319. Recipients may use these funds for MCSAP-eligible expenses, including personnel, equipment, training, travel, information technology solutions, indirect costs, and administrative expenses. The FMCSA may reimburse 100 percent of approved eligible costs for public education and outreach activities and 80 percent for all other activities under a High Priority grant award.

MCSAP New Entrant Safety Assurance (MNE) Grant Program: The MCSAP NE grant program is authorized by SAFETEA-LU, Public Law 109-59, § 4107(b), 119 Stat. 1144, 1720 (2005), amended by SAFETEA-LU Technical Corrections Act of 2008, Public Law 110-244, § 301(b), 122 Stat. 1572, 1616 (2008), as amended by MAP-21, Public Law 112-141, § 32603(e), 126 Stat. 405, 807, 808 (2012). This section also establishes new timeframes for the completion of New Entrant Safety Audits.

State agencies use NE grant funds for MCSAP-eligible expenses, including salaries and related expenses of employees performing interstate NE safety audits, training, and performing other eligible activities that are directly related to conducting safety audits. The FMCSA may reimburse up to 100 percent of eligible costs in an approved budget and project plan.

MCSAP Border Enforcement (BEG) Grant Program: The BEG program is authorized by SAFETEA-LU, Public Law 109-59, §§ 4101(c)(2), 4110 (2005), as amended by MAP-21, Public Law 112-141, §§ 32603(c) & (h) (2012). Section 32603(h) removed 49 U.S.C. 31107(b) which required that States agree that the total expenditure of amounts of the State and political subdivisions of the State, exclusive of amounts from the United States, for carrying out border CMV safety programs and related enforcement activities will be maintained at least equal to the average level of that expenditure for the last 2 fiscal years of the State or Federal Government ending before October 1, 2005, as designated by the State. The authorizing statute also provides that the Secretary shall reimburse a State under a grant agreement pursuant to this section in an amount not more than 100 percent of the costs incurred by the State in a fiscal year for carrying out border CMV safety programs and related enforcement activities and projects.

Commercial Driver's License Program Implementation (CDLPI) Grant Program: The CDLPI grant program authorized by Section 32604 of MAP-21, amended 49 U.S.C. 31313(a), provides general authority to the Secretary to make a grant to a State for its Commercial Driver's License Program Implementation (CDLPI) in a fiscal year. This enables the State to comply with program requirements and to improve CDLPI. A grant may be made to a State to:

• Comply with the requirements of 49 U.S.C. 31311;

• In the case of a State that is making a good faith effort toward substantial compliance with the program requirements and section 31311, to improve its implementation of its CDL program, including expenses for computer hardware and software; publications, testing, personnel, training, and quality control; for CDL program coordinators; to implement or maintain a system to notify an employer of an operator of a CMV of the suspension or revocation of the operator's CDL consistent with standards developed under section 32303(b) of the Commercial Motor Vehicle Safety Enhancement Act of 2012.

Commercial Driver License Information System (CDLIS) Modernization Grant Program: The CDLIS Modernization grant program is authorized by Section 4123 of SAFETEA-LU, which amended title 49 U.S.C., 31309 to provide general authority to the Secretary to make a grant to a State in a fiscal year to modernize the CDLIS components of the State licensing system. MAP-21 did not reauthorize new funding for this grant program but past grants awarded to States remain open and previously awarded funds may continue to be used toward CDLIS modernization efforts in States that received these grants.

Performance and Registration Information System Management (PRISM) Grant Program: The PRISM grant program is authorized by TEA-21 which directed the FMCSA to implement, on a national basis, a program that links the Motor Carrier Safety Information System of the Department of Transportation and similar State systems with State CMV registration and licensing systems. The purpose of PRISM is to: (1) Determine the safety fitness of the motor carrier prior to issuing license plates; and (2) cause the carrier to enhance its safety performance through an improvement process, and where necessary, apply sanctions to include denial, suspension, and/or revocation of CMV registrations. The Act also provides that the Secretary shall reimburse a State under a grant agreement in an amount not more than 100 percent of the costs incurred by the State implementing and complying with the program.

Section 32602 of MAP-21 amended 49 U.S.C. 31106(b)(3)(c) as follows:

• Establish and implement a process to:

○ Cancel the CMV registration and seize the registration plates of a CMV when an employer is found liable under section 31310(i)(2)(C) for knowingly allowing or requiring an employee to operate such a CMV in violation of an out-of-service order; and

○ Reinstate the vehicle registration or return the registration plates of the CMV, subject to sanctions under clause (i), if the Secretary permits such carrier to resume operations after the date of issuance of such order.

The FMCSA previously requested and received OMB approval to use the existing Forms in this ICR to also collect the same information required by the FMCSA programs described above and now requests to include the following grant programs in this information collection: Commercial Vehicle Information Systems and Networks (CVISN), Safety Data Improvement Program (SaDIP), and Commercial Vehicle Operator Safety Training Grant (CMVOST).

CVISN Grant Program: The CVISN grant program is authorized by SAFETEA-LU Public Law 109-59, §§ 4101(c)(4), 4126, 119 Stat. 1144, 1715, 1738-41 (2005), as amended by MAP-21, Public Law 112-141, §§ 32603(c) and 32605 (2012). The CVISN program is also governed by 49 U.S.C. 31106, as amended. The FMCSA provides CVISN funds to advance technological capability and promote the deployment of intelligent transportation systems applications for commercial vehicle operations, including commercial vehicle, commercial driver, and carrier-specific information systems and networks. Eligible awardees for CVISN funding are State agencies, including the District of Columbia and U.S. territories that are designated as the lead agency in the State's CVISN Program Plan and Top-Level Design (PP/TLD).

CMVOST Grant Program: The CMVOST grant program is authorized by SAFETEA-LU, Public Law 109-59, § 4134, 119 Stat. 1144, 1744-45 (2005), as amended by MAP-21, Public Law 112-141, § 112002(b) (2012). The FMCSA may award grants to expand the number of Commercial Driver's License holders possessing operator safety training in order to reduce the severity and number of crashes on U.S. roads involving CMVs.

The FMCSA may award CMVOST grant funds to State, local, and Federally-recognized Native American Tribal governments, accredited post-secondary educational institutions (public or private) and truck driver training schools that are accredited and recognized by the U.S. Department of Education. The FMCSA will reimburse up to 80 percent of approved eligible costs in an approved budget and project plan. The required 20 percent matching funds can be either cash or in-kind contributions.

Safety Data Improvement (SaDIP) Grant Program: The SaDIP grant program is authorized by SAFETEA-LU, Public Law 109-59, §§ 4101(c)(5), 4128, 119 Stat. 1144, 1715, 1742 (2005), as amended by MAP-21, Public Law 112-141, § 32603(c), 126 Stat. 405, 808 (2012). The FMCSA may award grants to improve the overall quality of CMV data, and specifically, to improve the timeliness, efficiency, accuracy, and completeness of State processes and systems used to collect, analyze, and report large truck and bus crash and inspection data.

The FMCSA may award these grants to State agencies including the District of Columbia, the Territories of American Samoa, Guam, the U.S. Virgin Islands, Commonwealth of Puerto Rico, and the Commonwealth of the Northern Mariana Islands. In accordance with the provisions of Section 4128 of SAFETEA-LU, a State shall be eligible for a grant under this section in a fiscal year if the Secretary determines that the State has (1) conducted a comprehensive audit of its CMV safety data system within the preceding 2 years; (2) developed a plan that identifies and prioritizes its CMV safety data need and goals; and (3) identified performance-based measures to determine progress toward those goals. The FMCSA may reimburse up to 80 percent of approved eligible costs in an approved budget and project plan.

Justification for Request

The FMCSA previously requested and received OMB approval to use the existing Forms MCSAP-2 and MCSAP-2A in the current ICR to also collect the same information required by MCSAP Basic and Incentive, NE, HP, BEG, CDL, CDLIS, and the PRISM grant programs. The FMCSA now requests to include the CVISN, CMVOST, and SaDIP grant programs in this information collection. The new form name for use in all FMCSA grants programs will be MCSA-3.

The MCSAP Basic and Incentive, HP, NE, BEG, CDL, CVISN, CMVOST, PRISM and SaDIP grant programs utilized the Form MCSAP-2A for the same purposes as the MCSAP grant program for grants issued prior to fiscal year (FY) 2011. Following FMCSA's implementation of GrantSolutions (GS) in FY 2011, a single uniform grant agreement, the FMCSA Grant Agreement, was used for notification of grant awards.

The FMCSA uses the information in the CVSP/Project Narratives, and Standard Forms Reports to determine whether a State has the necessary resources and authority to undertake the program intended by Congress. Additionally, after a grant has been awarded to a State, continuing evaluations are performed using SF-PPRs and SF-FFRs to measure individual and collective program accomplishments and determine whether continued funding is appropriate and whether revisions are necessary. In the event of nonconformity with any approved plan and failure on the part of a State to remedy deficiencies, FMCSA is required to take action to cease Federal participation.

Automated Information Collection

In 2010, FMCSA began the implementation of a new electronic grants management system called GS for submitting grants-related documentation such as applications, Standard Forms, and Quarterly reports. GS is a comprehensive grants management system provided by the Grants Center of Excellence (COE). The COE is managed by the Administration for Children and Families (ACF) within the Department of Health and Human Services in partnership with over 17 Federal agencies. The system is available to all Federal grant-awarding agencies as part of the Grants Management Line of Business initiative. It services all types of grants (service, training, demonstration, social research, and cooperative agreements) across all grant categories (discretionary, formula, block, and entitlement). The FMCSA began utilizing GS for all of its grant programs in fiscal year FY 2011 and has awarded grants through the system since that time. All applicants who apply for FMCSA grants must submit their applications electronically through Grants.gov which are then transmitted to GS. All FMCSA grant awards made prior to FY 2011 were completed using a legacy paper-based process.

Title: Motor Carrier Safety Grants Programs (formerly Motor Carrier Safety Assistance Program (MCSAP)).

OMB Control Number: 2126-0010.

Type of Request: Reinstatement of an information collection request.

Respondents: FMCSA Grant Recipients.

Estimated Number of Respondents: 4,436.

Estimated Time per Response: Grant application preparation: 80 hours each; quarterly report preparation: 8 hours each; and inspection and data upload: 1 minute each.

Expiration Date: February 28, 2014.

Frequency of Response: Grant application: 1 annually; quarterly reports: 8 annually; and inspection and data upload: about 3.4 million annually.

Estimated Total Annual Burden: 15,804 hours. The methods used to calculate the hours necessary to prepare grant applications, upload data, and prepare quarterly reports are based on interviews with the State and Federal personnel charged with those responsibilities. The information required to prepare the applications for grants and the subsequent reports is based on general information ordinarily maintained by the States in the general course of business, and only simple computations are required to determine burden hours. The grant applications and reports are submitted by the 50 States, four Territories, Puerto Rico, and the District of Columbia. Each entity submits one grant request per year and four quarterly reports. About 3.4 million inspection reports are uploaded each year.

The figures reflect only 20 percent of the total estimated hours to perform the activities, since MCSAP reimburses 80 percent of the eligible costs incurred in the administration of an approved plan as set forth in 49 CFR 350.303, 350.309 and 350.311. Labor hours are estimated and an average hourly rate for professional personnel is applied. The four territories of American Samoa, Guam, U.S. Virgin Islands and the Commonwealth of the Northern Mariana Islands are funded at 100 percent; therefore they are not included in the computation of burden.

Public Comments Invited: You are asked to comment on any aspect of this information collection, including: (1) Whether the proposed collection is necessary for the performance of FMCSA's functions; (2) the accuracy of the estimated burden; (3) ways for the FMCSA to enhance the quality, usefulness, and clarity of the collected information; and (4) ways that the burden could be minimized without reducing the quality of the collected information. The agency will summarize or include your comments in the request for OMB's clearance of this information collection.

Issued under the authority delegated in 49 CFR 1.87 on: March 7, 2014.
G. Kelly Leone,
Associate Administrator, Office of Research and Information Technology and Chief Information Officer.

[FR Doc. 2014-06166 Filed 3-20-14; 8:45 am]

BILLING CODE 4910-EX-P